DEPARTMENT OF TRANSPORTATION

Federal Highway Administration

Environmental Impact Statement; Maricopa County, AZ

AGENCY: Federal Highway Administration (FHWA), DOT.

ACTION: Notice of intent; correction.

SUMMARY: The FHWA published a notice of intent in the Federal Register of February 4, 2002 concerning an environmental impact statement (EIS) to be prepared for a proposed highway project within Maricopa County, Arizona. The contact information has changed, as well as the original project limits.

FOR FURTHER INFORMATION CONTACT: Kenneth H. Davis, District Engineer, Federal Highway Administration, One Arizona Center, Suite 410, 400 East Van Buren Street, Phoenix, AZ 85004-2285, Telephone (602) 379-3646.

Corrections

In the Federal Register of February 4, 2002, in FR Doc. 02-2565, Filed 2-1-02, 8:45 am, on page 5143, in the first column, correct the FOR FURTHER INFORMATION CONTACT caption to read:

FOR FURTHER INFORMATION CONTACT: Kenneth H. Davis, District Engineer, Federal Highway Administration, One Arizona Center, Suite 410, 400 East Van Buren Street, Phoenix, AZ 85004-2285, Telephone (602) 379-3646.

In the same document, on page 5143, in the first column, after the first sentence of the SUPPLEMENTARY INFORMATION section, add the following information: Project limits also include: (1) I-10 from Buckeye Road north to the south ramps of the I-10/SR 51/202L Traffic Interchange; (2) I-17 from 16th Street west to 7th Street; (3) I-10 from Baseline Road south to the north ramps of the I-10/202L Traffic Interchange.

Dated: May 8, 2002.
Kenneth H. Davis,
District Engineer, Phoenix.

[FR Doc. 02-11968 Filed 5-13-02; 8:45 am]

BILLING CODE 4910-22-M